NUCLEAR REGULATORY COMMISSION

[NRC-2015-0001]

Sunshine Act Meeting Notice

DATE: January 26, February 2, 9, 16, 23, March 2, 2015.

PLACE: Commissioners' Conference Room, 11555 Rockville Pike, Rockville, Maryland.

STATUS: Public and Closed.

Week of January 26, 2015

Thursday, January 29, 2015

9 a.m. Briefing on Foreign Ownership, Control, and Domination (Public Meeting) (Contact: Shawn Harwell, 301-415-1309)

This meeting will be webcast live at the Web address— http://www.nrc.gov/.

Week of February 2, 2015—Tentative

Monday, February 2, 2015

1 p.m. Discussion of International Activities (Closed—Ex. 9)

Wednesday, February 4, 2015

8:30 a.m. Hearing on Combined License for Fermi, Unit 3 (Public Meeting) (Contact: Adrian Muniz, 301-415-4093)

This meeting will be webcast live at the Web address— http://www.nrc.gov/.

Week of February 9, 2015—Tentative

There are no meetings scheduled for the week of February 9, 2015.

Week of February 16, 2015—Tentative

Wednesday, February 18, 2015

9:30 a.m. Briefing on NRC International Activities (Closed—Ex. 9)

Week of February 23, 2015—Tentative

There are no meetings scheduled for the week of February 23, 2015.

Week of March 2, 2015

There are no meetings scheduled for the week of March 2, 2015.

* * * * *

The schedule for Commission meetings is subject to change on short notice. For more information or to verify the status of meetings, contact Glenn Ellmers at (301) 415-0442 or via email at Glenn.Ellmers@nrc.gov.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0727, by videophone at 240-428-3217, or by email at Kimberly.Meyer-Chambers@nrc.gov. Determinations on requests for reasonable accommodation will be made on a case-by-case basis.

* * * * *

Members of the public may request to receive this information electronically. If you would like to be added to the distribution, please contact the Office of the Secretary, Washington, DC 20555 (301-415-1969), or send an email to Patricia.Jimenez@nrc.gov or Brenda.Akstulewicz@nrc.gov.

Dated: January 22, 2015.
Richard J. Laufer,
Technical Coordinator, Office of the Secretary.

[FR Doc. 2015-01405 Filed 1-22-15; 4:15 pm]

BILLING CODE 7590-01-P